DEPARTMENT OF JUSTICE

Antitrust Division

Notice Pursuant to the National Cooperative Research and Production Act of 1993—TM Forum

Notice is hereby given that, on January 18, 2023, pursuant to Section 6(a) of the National Cooperative Research and Production Act of 1993, 15 U.S.C. 4301 et seq. (“the Act”), TM Forum, A New Jersey Non-Profit Corporation (“the Forum”), filed written notifications simultaneously with the Attorney General and the Federal Trade Commission disclosing changes in its membership. The notifications were filed for the purpose of extending the Act's provisions limiting the recovery of antitrust plaintiffs to actual damages under specified circumstances.

Specifically, the following entities have become members of the Forum: Knut Johannessen, Oslo, NORWAY; Vijay Consultants, Bengaluru, INDIA; Swish Fibre, London, UNITED KINGDOM; Gigaclear Ltd, Abingdon, UNITED KINGDOM; NodeWeaver Corporation, Weston, FL; Surfly, Amsterdam, NETHERLANDS; Tigo Honduras, Tegucigalpa, HONDURAS; Tigo Panama, Ciudad de Panama, PANAMA; Tigo Colombia, Bogota, COLOMBIA; Fundação Cearense de Pesquisa e Cultura, Fortaleza, BRAZIL; Verso Altima d.o.o., Zagreb, CROATIA; NATEC RD LLC, Kyiv, UKRAINE; National Institute of Information and Communications Technology (NICT), Tokyo, JAPAN; Kazakhtelecom JSC, Nur-Sultan, KAZAKHSTAN; Revalora Beta Consulting, S.L., Madrid, SPAIN; Sage Management, LLC, Charleston, SC; POWERACT Consulting, Casablanca, MOROCCO; Modern Telecom Systems IT, Cairo, EGYPT; ICT Research Center of Institut Teknologi Bandung, Bandung, INDONESIA; iMocha `Mocha Technologies Inc', Claymont, DE; Amazon Web Services, Inc., Seattle, WA; DZS Inc., Plano, TX; Levio Consulting Inc., Québec City, CANADA; LPTIC, Tripoli, LIBYA.

Also, the following members have changed their names: Sofrecom SA, Sofrecom Tunisie, Tunis, TUNISIA; Marand Software, Marand Software ltd, Ljubljana, SLOVENIA.

In addition, the following parties have withdrawn as parties to this venture: Allo Technology, Cyberjaya, MALAYSIA; ANS Digital Transformation Limited, London, UNITED KINGDOM; Billity AS, Foldrøyhamn, NORWAY; Cellwize Wireless Technologies Ltd., Tel Aviv, ISRAEL; Circa Information Corporation, Fergus, CANADA; Inselleben.Berlin GmbH, Berlin, GERMANY; iQmetrix, Vancouver, CANADA; KNOWHAWK sprl, Pont-à-Celles, BELGIUM; Lifecell Ventures Coöperatief U.A., Amsterdam, NETHERLANDS; Logate d.o.o., Podgorica, MONTENEGRO; Maplewave, Dartmouth, CANADA; National University of Ireland Maynooth, Maynooth, IRELAND; NHB Management Services SARL, Temara, MOROCCO; RIFT Inc., Chelmsford, MA; SSE Electricity, Reading, UNITED KINGDOM; SuccessFull Telecom Technology Co., Ltd., Shanghai, PEOPLE'S REPUBLIC OF CHINA; Tatic Soluções em Informática Ltda, Belo Horizonte, BRAZIL; Tecnovos Technologies LLP, Ulsoor, INDIA; Teledom d.o.o., Zagreb, CROATIA; Tshwane University of Technology Faculty of ICT, The Reeds, SOUTH AFRICA; USC—University of Southern California, Los Angeles, CA.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on October 27, 2022. A notice was published in the Federal Register pursuant to Section 6(b) of the Act on November 23, 2022 (87 FR 71679).

Suzanne Morris,
Deputy Director, Civil Enforcement Operations, Antitrust Division.

[FR Doc. 2023-05507 Filed 3-16-23; 8:45 am]

BILLING CODE 4410-11-P